DEPARTMENT OF TRANSPORTATION

Federal Aviation Administration

Public Notice for a Change in Use of Aeronautical Property at Martin County Airport/Witham Field in Stuart, FL

AGENCY: Federal Aviation Administration (FAA), DOT.

ACTION: Request for public comment.

SUMMARY: The Federal Aviation Administration is requesting public comment on the Martin County Board of County Commissioners (Sponsor) request to change approximately 30 acres of airport property from aeronautical use to non-aeronautical use.

The property is located on the west side of the airport and is bordered by Monterey Road to the North, Taxiway D to the East, Runway 7-25 to the south, and Runway 12-30 to the West. The property is currently designated as future aeronautical use on the currently approved Airport Layout Plan. The Sponsor proposes changing the land-use to non-aeronautical/commercial development for the purposes of generating revenue to cover operational and capital expenses of the airport. The property would remain airport property under the ownership of the sponsor.

Documents reflecting the sponsor's request are available, by appointment only, for inspection at the Airport Manager's office and the FAA Airports District Office.

DATES: Comments must be received on or before May 13, 2004.

ADDRESSES: Documents are available for review at the Airport Manager's office, Martin County Airport/Witham Field, 1805 SE Airport Road, Stuart, FL 34996 and the FAA Airports District Office, 5950 Hazeltine National Drive, Suite 400, Orlando, FL 32822. Written comments on the sponsor's request must be delivered or mailed to: Matthew J. Thys, Assistant Manager, Orlando Airports District Office, 5950 Hazeltine National Drive, Suite 400, Orlando, FL 32822-5024.

FOR FURTHER INFORMATION CONTACT: Matthew J. Thys, Assistant Manager, Orlando Airports District Office, 5950 Hazeltine National Drive, Suite 400, Orlando, FL 32822-5024.

SUPPLEMENTARY INFORMATION: Section 125 of The Wendell H. Ford Aviation investment and Reform Act for the 21st Century (AIR-21) requires the FAA to provide an opportunity for public notice and comment prior to the “waiver” or “modification” of a sponsor's Federal obligation to use certain airport land for non-aeronautical purposes.

The property is located on the west side of the airport and is bordered by Monterey Road to the North, Taxiway D to the East, Runway 7-25 to the South, and Runway 12-30 to the West.

The property was owned by Martin County and leased to the Federal Government on May 27, 1943. The Federal Government transferred the property back to the Martin County Board of County Commissioners through a Surplus Property Agreement under Regulation 16-War Asset Administration, dated July 1, 1949.

The property is currently designated as future aeronautical use on the currently approved Airport Layout Plan. The Sponsor proposes changing the land-use to non-aeronautical/commercial development for the purposes of generating revenue to cover operational and capital expenses of the airport. The property is currently vacant. The property would remain airport property under the ownership of the sponsor and leased for the purposes of revenue generation.

Matthew J. Thys,
Acting Manager, Orlando Airports District Office, Southern Region.

[FR Doc. 04-8367 Filed 4-12-04; 8:45 am]

BILLING CODE 4910-13-M